DEPARTMENT OF ENERGY

Federal Energy Regulatory Commission

[Docket No. CP13-104-000]

Columbia Gas Transmission, LLC; Notice of Request Under Blanket Authorization

Take notice that on March 15, 2013, Columbia Gas Transmission, LLC (Columbia) 5151 San Felipe, Suite 2500, Houston, Texas 77056, filed in Docket No. CP13-104-000, an application pursuant to sections 157.205, 157.208, and 157.216(b) of the Commission's Regulations under the Natural Gas Act (NGA) as amended, to abandon and construct certain natural gas pipeline facilities in Johnson and Martin Counties, Kentucky, under Columbia's blanket certificate issued in Docket No. CP83-76-000,¹ all as more fully set forth in the application which is on file with the Commission and open to the public for inspection.

¹ 22 FERC ¶ 62,029 (1983).

Columbia proposes to abandon and replace approximately 6.5 miles of bare, coupled 10-inch diameter pipeline originally constructed in 1912 without cathodic protection on its Line PM-117 in Johnson and Martin Counties, Kentucky. Columbia also proposes to replace the abandoned pipeline with approximately 7.4 miles of new 6-inch diameter coated, cathodically protected, steel pipeline. Columbia states that the reduction in pipeline diameter would have no adverse effect on Columbia's ability to meet its operational and firm commitments on this pipeline. Columbia also states that it would cost approximately $15,400,000 to replace the aging pipe on Line PM-117.

Columbia states that because of the necessary relocation of a significant portion of Line PM-117, Columbia has identified 10 mainline consumer taps that would be abandoned as part of the proposed replacement. Columbia also states that continuity of service to the affected consumers would be maintained by converting them to an alternate energy source.

Any questions concerning this application may be directed to Fredric J. George, Senior Counsel, Columbia Gas Transmission, LLC, P.O. Box 1273, Charleston, West Virginia 25325-1273 or via telephone at (304) 357-2359 or by facsimile (304) 357-3206.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: March 26, 2013.
Kimberly D. Bose,
Secretary.

[FR Doc. 2013-07544 Filed 4-1-13; 8:45 am]

BILLING CODE 6717-01-P